SOCIAL SECURITY ADMINISTRATION

[Docket No: SSA-2016-0032]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov

(SSA) Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2016-0032].

I. The information collections below are pending at SSA. SSA will submit them to OMB within 60 days from the date of this notice. To be sure we consider your comments, we must receive them no later than September 16, 2016. Individuals can obtain copies of the collection instruments by writing to the above email address.

1. Certificate of Coverage Request—20 CFR 404.1913—0960—0554. The United States holds agreements with 27 foreign countries to eliminate double Social Security coverage and taxation where, except for the provisions of the agreement, a worker would be subject to coverage and taxes in both countries. These agreements contain rules for determining the country under whose laws the worker's period of employment is covered, and to which country the worker will pay taxes. The agreements further dictate that, upon the request of the worker or employer, the country under whose system the period of work is covered will issue a certificate of coverage. The certificate serves as proof of exemption from coverage and taxation under the system of the other country. The information we collect assists us in determining a worker's coverage and in issuing a U.S. certificate of coverage as appropriate. Per our agreements, we ask a set number of questions to the workers and employers prior to issuing a certificate of coverage; however, our agreements with Denmark, Netherlands, Norway, and Sweden require us to ask more questions in those countries. Respondents are workers and employers wishing to establish exemption from foreign Social Security taxes.

Type of Request: Revision of an OMB-approved information collection.

Modality of completion | Number of respondents | Frequency of response | Average burden per response (minutes) | Estimated total annual burden (hours)
Requests via Letter—Individuals (minus Denmark, Netherlands, Norway, Poland & Sweden) | 6,272 | 1 | 40 | 4,181
Requests via Internet—Individuals (minus Denmark, Netherlands, Norway, Poland & Sweden) | 9,407 | 1 | 40 | 6,271
Requests via Letter—Individuals in Denmark, Netherlands, Norway, & Sweden | 280 | 1 | 44 | 205
Requests via Letter—Individuals in Poland | 16 | 1 | 41 | 11
Requests via Internet—Individuals in Denmark, Netherlands, Norway, & Sweden | 421 | 1 | 44 | 309
Requests via Internet—Individuals in Poland | 23 | 1 | 41 | 16
Requests via Letter—Employers (minus Denmark, Netherlands, Norway, Poland & Sweden) | 25,087 | 1 | 40 | 16,725
Requests via Internet—Employers (minus Denmark, Netherlands, Norway, Poland, & Sweden) | 37,632 | 1 | 40 | 25,088
Requests via Letter—Employers in Denmark, Netherlands, Norway, & Sweden | 1,121 | 1 | 44 | 822
Requests via Letter—Employers in Poland | 62 | 1 | 41 | 42
Requests via Internet—Employers in Denmark, Netherlands, Norway, & Sweden | 1,680 | 1 | 44 | 1,232
Requests via Internet—Employers in Poland | 93 | 1 | 41 | 64
Totals | 82,094 |  |  | 54,966

2. Disability Report—Child—20 CFR 416.912—0960-0577. Sections 223(d)(5)(A) and 1631(e)(1) of the Social Security Act require Supplemental Security Income (SSI) claimants to furnish medical and other evidence to prove they are disabled. SSA uses Form SSA-3820 to collect various types of information about a child's condition from treating sources or other medical sources of evidence. The State Disability Determination Services evaluators use the information from Form SSA-3820 to develop medical and school evidence, and to assess the alleged disability. The information, together with medical evidence, forms the evidentiary basis upon which SSA makes its initial disability evaluation. The respondents are claimants seeking SSI childhood disability payments.

Type of Request: Revision of an OMB-approved information collection.

Modality of completion | Number of respondents | Frequency of response | Average burden per response (minutes) | Estimated total annual burden (hours)
SSA-3820 (Paper Form) | 279,002 | 1 | 90 | 418,503
Electronic Disability Collection System | 1,000 | 1 | 120 | 2,000
i3820 (Internet) | 119,464 | 1 | 120 | 238,928
Totals | 399,466 |  |  | 659,431

3. Request for Accommodation in Communication Method—0960-0777. SSA allows disabled or impaired Social Security applicants, beneficiaries, recipients, and representative payees to choose one of seven alternative methods of communication they want SSA to use when we send them benefit notices and other related communications. The seven alternative methods we offer are: (1) Standard print notice by first-class mail; (2) standard print mail with a follow-up telephone call; (3) certified mail; (4) Braille; (5) Microsoft Word file on data CD; (6) large print (18-point font); or (7) audio CD. However, respondents who want to receive notices from SSA through a communication method other than the seven methods listed above must explain their request to us. Those respondents use Form SSA-9000 to: (1) Describe the type of accommodation they want, (2) disclose their condition necessitating the need for a different type of accommodation, and (3) explain why none of the seven methods described above are sufficient for their needs. SSA uses Form SSA-9000 to determine, based on applicable law and regulation, whether to grant the respondents' requests for an accommodation based on their impairment or disability. SSA collects this information electronically through either an in-person interview or a telephone interview during which the SSA employee keys in the information on our iAccommodate Intranet screens. The respondents are disabled or impaired Social Security applicants, beneficiaries, recipients, and representative payees who ask SSA to send notices and other communications in an alternative method besides the seven modalities we currently offer.

Type of Request: Revision of an OMB-approved information collection.

Modality of completion | Number of respondents | Frequency of response | Average burden per response (minutes) | Estimated total annual burden (hours)
SSA-9000/iAccommodate | 5,000 | 1 | 20 | 1,667

II. SSA submitted the information collections below to OMB for clearance. Your comments regarding the information collections would be most useful if OMB and SSA receive them 30 days from the date of this publication. To be sure we consider your comments, we must receive them no later than August 17, 2016. Individuals can obtain copies of the OMB clearance package by writing to OR.Reports.Clearance@ssa.gov.

Work Incentives Planning and Assistance Program—0960-0629. As part of SSA's strategy to assist Social Security Disability Insurance (SSDI) beneficiaries and SSI recipients who wish to return to work and achieve self-sufficiency, SSA established the Work Incentives Planning and Assistance (WIPA) program. This community based, work incentive, planning and assistance project collects identifying claimant information via project sites and community work incentives coordinators (CWIC). SSA uses this information to ensure proper management of the project, with particular emphasis on administration, budgeting, and training. In addition, project sites and CWIC's collect data from SSDI beneficiaries and SSI recipients on background employment, training, benefits, and work incentives. SSA is interested in identifying SSDI beneficiary and SSI recipient outcomes under the WIPA program, to determine the extent to which beneficiaries with disabilities and SSI recipients achieve their employment, financial, and healthcare goals. SSA will also use the data in its analysis and future planning for SSDI and SSI programs. Respondents are SSDI beneficiaries, SSI recipients, community project sites, and employment advisors.

Type of Request: Revision of an OMB-approved information collection.

Modality of completion | Number of respondents | Frequency of response | Average burden per response (minutes) | Estimated total annual burden (hours)
Small Site (Under 150 beneficiaries served) | 4,800 | 1 | 20 | 1,600
Medium Site (150-599 beneficiaries served) | 7,500 | 1 | 20 | 2,500
Large Site (600 or more beneficiaries served) | 17,700 | 1 | 20 | 5,900
Total Sites | 30,000 |  |  | 10,000
SSDI & SSI Beneficiaries | 30,000 | 1 | 25 | 12,500
Help Line | 30,000 | 1 | 5 | 2,500

Dated: July 13, 2016.
Naomi R. Sipple,
Reports Clearance Officer, Social Security Administration.

[FR Doc. 2016-16865 Filed 7-15-16; 8:45 am]

BILLING CODE 4191-02-P